GENERAL SERVICES ADMINISTRATION

[Notice-MA-2025-17; Docket No. 2025-0002; Sequence No. 15]

Federal Management Regulation (FMR); Rescinding and/or Removing FMR Bulletins

AGENCY: Office of Government-wide Policy (OGP), U.S. General Services Administration (GSA).

ACTION: Notice to rescind and/or remove FMR Bulletins.

SUMMARY: GSA is rescinding and/or removing 41 bulletins due to their being outdated, unnecessary, expired, or inconsistent with Administration policy.

DATES: Applicability Date: July 16, 2025.

FOR FURTHER INFORMATION CONTACT: Mr. Alexander Kurien, Office of Government-wide Policy, Office of Asset and Transportation Management, at 202-495-9628 or by email at alexander.kurien@gsa.gov. Please cite Notice to rescind and/or remove FMR bulletins (MA-2025-17).

SUPPLEMENTARY INFORMATION:

Background

Due to issuance of the Executive Order (E.O.) 14192, Unleashing Prosperity Through Deregulation, dated January 31, 2025, GSA is rescinding and/or removing 41 Federal Management Regulation (FMR) Bulletins from GSA's website.

The following bulletins are rescinded and removed from GSA's website because the content is outdated, expired, unnecessary, or inconsistent with Administration policy:

1. FMR Bulletin C-2023-01: Clarifying the Process For Meeting Federal Space Needs

2. Notice-MA-2016-01: Best Practices in Warehouse Asset Management

3. FMR Bulletin 2012-C1: Accurate Reporting of Data for the Federal Real Property Profile

4. FMR Bulletin 2009 B-23: Federal Asset Sales (eFAS) Reporting Tool

5. FMR Bulletin 2008-B7: Federal Real Property Report

6. FMR Bulletin 2008-B2: Real Property Federal Asset Sales

7. FMR Bulletin 2008-B1: Delegations of Lease Acquisition Authority—Notification, Usage, and Reporting Requirements for General Purpose, Categorical, and Special Purpose Space Delegations

8. FMR Bulletin 2007-B3: Assessment of fees and recovery of costs for antennas of Federal agencies and public service organizations

9. FMR Bulletin 2007-B2: Placement of Commercial Antennas

10. FMR Bulletin 2007-B1: Information Technology and Telecommunications Guidelines for Federal Telework and Other Alternative Workplace Arrangement Programs

11. FMR Bulletin 2006-B4: Federal Real Property Profile Summary Report

12. FMR Bulletin 2006-B3: Guidelines for Alternative Workplace Arrangements

13. FMR Bulletin 2005-B2: Federal Real Property Profile Summary Report

14. FMR Bulletin 2005-B1: Revised Implementation Requirements of the Delegation of Lease Acquisition Authority

15. FMR Bulletin 2004 B-1: Federal Real Property Profile Summary Report

16. FMR Bulletin B-53: Use of Government-issued Fleet Charge Cards

17. FMR Bulletin B-52: Clarifying the Process For Meeting Federal Space Needs

18. FMR Bulletin B-43: Vehicle Allocation Methodology for Agency Fleets

19. FMR Bulletin B-40: List of Active and Cancelled or Superseded GSA Bulletins Addressing Personal Property

20. FMR Bulletin B-38: Indirect Costs of Motor Vehicle Fleet Operations

21. FMR Bulletin B-35: Home-to-Work Transportation

22. FMR Bulletin B-33: Alternative Fuel Vehicle Guidance for Law Enforcement and Emergency Vehicle Fleets

23. FMR Bulletin B-31: Government Motor Vehicle Fueling During Market Shortages

24. FMR Bulletin B-29: Accurately Reporting Passenger Vehicle Inventory within the Federal Automotive Statistical Tool

25. FMR Bulletin B-28: Federal Employee Transportation and Shuttle Services

26. FMR Bulletin B-19: Increasing the Fuel Efficiency of the Federal Motor Vehicle Fleet

27. FMR Bulletin B-11: U.S. Government License Plate Codes

28. FMR Bulletin 2004-B6: Proceeds from Sale of Agency-Owned Vehicles

29. FMR Bulletin B-3: Use of Tobacco Products in U.S. Government Vehicles

30. FMR Bulletin B-2: Wireless Phone Use in U.S. Government Vehicles

31. FMR Bulletin C-2: Delegations of Lease Acquisition Authority—Notification, Usage, and Reporting Requirements for General Purpose, Categorical, and Special Purpose Space Delegations

32. FMR Bulletin 2003-B1: Locating Federal Facilities in Rural Areas

The following bulletins are rescinded and removed because the bulletins are unnecessary and the subject matter is already adequately addressed by statute or existing regulations (listed in parentheses after the bulletin title in this notice). Rescission and removal of these bulletins is not intended to and does not impact underlying statutory and regulatory requirements.

33. FMR Bulletin 2009-B1: Protecting Federal Employees and the Public From Exposure to Tobacco Smoke in the Federal Workplace (41 CFR 102-74.315 through 102-74.351)

34. FMR Bulletin 2021-1: Persons who are Nursing in Public Buildings (40 U.S.C. 3318 and 29 U.S.C. 218d)

35. FMR Bulletin 2011-B1: Nursing Mothers in the Federal Workplace (40 U.S.C. 3318 and 29 U.S.C. 218d)

36. FMR Bulletin 2008-B6: POW/MIA Flag Display (36 U.S.C. 902)

The following bulletins are removed from GSA's website because they have expired. Expiration and removal of these bulletins do not alter the designation and redesignations set forth therein:

37. FMR Bulletin PBS 2008-B6: Redesignations of Federal Buildings

38. FMR Bulletin PBS 2007-B3: Redesignations of Federal Buildings

39. FMR Bulletin 2006-B1: Designations and Redesignations of Federal Buildings

40. FMR Bulletin 2005-B3: Redesignations of Federal Buildings

41. FMR Bulletin 2004-B3: Re-designations of Federal Buildings

All currently active FMR bulletins can be viewed at https://www.gsa.gov/policy-regulations/regulations/federal-management-regulation/fmr-and-related-files.

Larry Allen,
Associate Administrator, Office of Government-wide Policy.

[FR Doc. 2025-13295 Filed 7-15-25; 8:45 am]

BILLING CODE 6820-14-P